DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 2, 2014. Address written comments to Statutory Import Programs Staff, Room 3720, U.S. Department of Commerce, Washington, DC 20230. Applications may be examined between 8:30 a.m. and 5:00 p.m. at the U.S. Department of Commerce in Room 3720.

Docket Number: 14-014. Applicant: The Research Corporation of the University of Hawaii, 1680 East-West Road, POST 602, Honolulu, HI 96822. Instrument: Electron Microscope. Manufacturer: FEI Company, Czech Republic. Intended Use: The instrument will be used to study man-made and natural materials with special emphasis on extraterrestrial materials and energy storage materials. Justification for Duty-Free Entry: There are no instruments of the same general category manufactured in the United States. Application accepted by Commissioner of Customs: August 14, 2014.

Docket Number: 14-020. Applicant: Louisiana State University, One University Place, Shreveport, Louisiana 71115. Instrument: Electron Microscope. Manufacturer: Delong Instruments A.s., Czech Republic. Intended Use: The instrument is used to study the size, shape and composition of inorganic, organic, biomolecular materials, and cells and tissues. Justification for Duty-Free Entry: There are no instruments of the same general category manufactured in the United States. Application accepted by Commissioner of Customs: August 26, 2014.

Docket Number: 14-022. Applicant: University of Nebraska-Lincoln, 1700 Y St., Lincoln, Nebraska 68588-0645. Instrument: Electron Microscope. Manufacturer: FEI Company, the Netherlands. Intended Use: The instrument is used to build complex nanopatterning and nanoscale structures, conduct three-dimensional materials characterization, and targeted transmission electron microscopy sample preparation. Justification for Duty-Free Entry: There are no instruments of the same general category manufactured in the United States. Application accepted by Commissioner of Customs: August 12, 2014.

Docket Number: 14-025. Applicant: Michigan State University, 333 Botswick Ave. NE., Grand Rapids, MI 49503. Instrument: Electron Microscope. Manufacturer: JEOL Ltd., Japan. Intended Use: The instrument is used to generate recombinant proteins and induce aggregation of them using biochemical techniques, as well as to purify protein aggregates from human tissue samples, and study human disease using a number of animal models, and in these experiments conduct ultrastructural analyses of the animal's brain tissues. Justification for Duty-Free Entry: There are no instruments of the same general category manufactured in the United States. Application accepted by Commissioner of Customs: August 26, 2014.

Dated: September 5, 2014.
Richard Herring,
Acting Director of Subsidies Enforcement, Enforcement and Compliance.

[FR Doc. 2014-21837 Filed 9-11-14; 8:45 am]

BILLING CODE 3510-DS-P